DEPARTMENT OF ENERGY

Federal Energy Regulatory Commission

Combined Notice of Filings #1

January 6, 2006.

Take notice that the Commission received the following electric rate filings:

Docket Numbers: ER05-717-003; ER05-721-003; ER04-374-002; ER99-2341-005.

Applicants: Spring Canyon Energy LLC; Judith Gap Energy LLC; Invenergy TN LLC; Hardee Power Partners Limited.

Description: Spring Canyon Energy LLC, Judith Gap Energy LLC et al submit a notice of certain changes in the characteristics relied upon to grant market-based rate authority; tariff amendments by Hardee Power and Invenergy also included.

Filed Date: 12/22/2005.

Accession Number: 20051230-0048.

Comment Date: 5 p.m. eastern time on Thursday, January 12, 2006.

Docket Numbers: ER06-375-000.

Applicants: Southern Company Services, Inc.

Description: Southern Co. Services, Inc agent for Alabama Power Co. et al submits the Rollover Service Agreement for Long-Term Firm Point-to-Point Transmission Service under Open Access Transmission Tariff etc.

Filed Date: 12/22/2005.

Accession Number: 20051228-0065.

Comment Date: 5 p.m. eastern time on Thursday, January 12, 2006.

Docket Numbers: ER06-424-000.

Applicants: Elkem Metals Company—Alloy L.P.

Description: Elkem Metals Co.—Alloy, LP submits the Shared Facilities Agreement with West Virginia Alloys, Inc.

Filed Date: 12/20/2005.

Accession Number: 20051230-0066.

Comment Date: 5 p.m. eastern time on Thursday, January 12, 2006.

Docket Numbers: ER06-388-000.

Applicants: Kentucky Utilities Company.

Description: Kentucky Utilities Co. submits an amendment to a contract with the City of Barbourville, Kentucky.

Filed Date: 12/27/2005.

Accession Number: 20051229-0188.

Comment Date: 5 p.m. eastern time on Tuesday, January 17, 2006.

Docket Numbers: ER06-389-000.

Applicants: Kentucky Utilities Company.

Description: Kentucky Utilities Co. submits an amendment to a contract with City of Bardstown, KY.

Filed Date: 12/27/2005.

Accession Number: 20051229-0187.

Comment Date: 5 p.m. eastern time on Tuesday, January 17, 2006.

Docket Numbers: ER06-390-000.

Applicants: Kentucky Utilities Company.

Description: Kentucky Utilities Co. submits amendments to a contract between the City of Bardwell, KY.

Filed Date: 12/27/2005.

Accession Number: 20051229-0189.

Comment Date: 5 p.m. eastern time on Tuesday, January 17, 2006.

Docket Numbers: ER06-391-000.

Applicants: Kentucky Utilities Company.

Description: Kentucky Utilities submits an amendment to a contract with Benham, KY.

Filed Date: 12/27/2005.

Accession Number: 20051229-0168.

Comment Date: 5 p.m. eastern time on Tuesday, January 17, 2006.

Docket Numbers: ER06-392-000.

Applicants: Kentucky Utilities Company.

Description: Kentucky Utilities Co. submits an amendment to a contract with City of Falmouth, KY.

Filed Date: 12/27/2005.

Accession Number: 20051229-0169.

Comment Date: 5 p.m. eastern time on Tuesday, January 17, 2006.

Docket Numbers: ER06-393-000.

Applicants: Kentucky Utilities Company.

Description: Kentucky Utilities Co. submits an amendment to a contract with City of Frankfort, KY.

Filed Date: 12/27/2005.

Accession Number: 20051229-0170.

Comment Date: 5 p.m. eastern time on Tuesday, January 17, 2006.

Docket Numbers: ER06-394-000.

Applicants: Kentucky Utilities Company.

Description: Kentucky Utilities Co. submits an amendment to a contract with the City of Paris, KY.

Filed Date: 12/27/2005.

Accession Number: 20051229-0171.

Comment Date: 5 p.m. eastern time on Tuesday, January 17, 2006.

Docket Numbers: ER06-395-000.

Applicants: Kentucky Utilities Company.

Description: Kentucky Utilities Co. submit an amendment to a contract with the City of Madisonville, KY.

Filed Date: 12/27/2005.

Accession Number: 20051229-0172.

Comment Date: 5 p.m. eastern time on Tuesday, January 17, 2006.

Docket Numbers: ER06-396-000.

Applicants: Entergy Services, Inc.

Description: Entergy Services, Inc. as agent for the Entergy Operating Companies submits a mutually-executed Sixth Revised Network Integration Transmission Service Agreement with East Texas Electric Coop, Inc et al.

Filed Date: 12/27/2005.

Accession Number: 20051229-0173.

Comment Date: 5 p.m. eastern time on Tuesday, January 17, 2006.

Docket Numbers: ER06-397-000.

Applicants: American Electric Power Service Corporation.

Description: American Electric Power Service Corp as agent for its affiliates Ohio Power Co. et al submit an Interconnection Agreement with West Penn Power & Monongahela Power Co.

Filed Date: 12/27/2005.

Accession Number: 20051229-0174.

Comment Date: 5 p.m. eastern time on Tuesday, January 17, 2006.

Docket Numbers: ER06-398-000; ER06-399-000.

Applicants: Duquesne Keystone, LLC; Duquesne Conemaugh, LLC.

Description: Application of Duquesne Keystone, LLC & Duquesne Conemaugh, LLC for order accepting initial market-based tariff and granting certain waivers and blanket approvals and notice of change in status.

Filed Date: 12/27/2005.

Accession Number: 20051229-0191.

Comment Date: 5 p.m. eastern time on Tuesday, January 17, 2006.

Docket Numbers: ER06-400-000.

Applicants: MidAmerican Energy Company.

Description: MidAmerican Energy Co. submits First Revised Sheet No. 13 et al to Third Revised FERC Rate Schedule No. 62, Electric Transmission Interconnection Agreement with Corn Belt Power Cooperative etc.

Filed Date: 12/27/2005.

Accession Number: 20051229-0192.

Comment Date: 5 p.m. eastern time on Tuesday, January 17, 2006.

Docket Numbers: ER06-401-000.

Applicants: Avista Corporation.

Description: Avista Corporation submits a non-conforming agreement under its Open Access Transmission Tariff, Original Volume No. 8 consisting of an Interconnection & Operating Agreement with Kootenia Electric Coop, Inc.

Filed Date: 12/27/2005.

Accession Number: 20051229-0064.

Comment Date: 5 p.m. eastern time on Tuesday, January 17, 2006.

Docket Numbers: ER06-402-000.

Applicants: Avista Corporation.

Description: Avista Corporation submits a non-conforming agreement under its Open Access Transmission Tariff, Original Volume No. 8 consisting of an Interconnection & Operating Agreement with Big Bend Electric Coop, Inc.

Filed Date: 12/27/2005.

Accession Number: 20051229-0065.

Comment Date: 5 p.m. eastern time on Tuesday, January 17, 2006.

Docket Numbers: ER06-403-000.

Applicants: Avista Corporation.

Description: Avista Corp submits a non-conforming agreement under its Open Access Transmission Tariff, Original Volume No. 8 & an interconnection & operating agreement with Public Utility District 1 of Asotin County etc.

Filed Date: 12/27/2005.

Accession Number: 20051229-0066.

Comment Date: 5 p.m. eastern time on Tuesday, January 17, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-497 Filed 1-18-06; 8:45 am]

BILLING CODE 6717-01-P